DEPARTMENT OF COMMERCE

International Trade Administration

[A-570-831]

Fresh Garlic From the People's Republic of China: Notice of Extension of Time Limit for the Preliminary Results of a New Shipper Antidumping Duty Review

AGENCY: Import Administration, International Trade Administration, Department of Commerce.

ACTION: Notice of Extension of Time Limit for the Preliminary Results of a New Shipper Antidumping Duty Review.

SUMMARY: The Department of Commerce is extending the time limit for the preliminary results of a new shipper review of the antidumping duty order on fresh garlic from the People's Republic of China until no later than April 22, 2003. This extension applies to the new shipper review for Huaiyang Hongda Dehydrated Vegetable Company. The period of review is November 1, 2001, through April 30, 2002.

EFFECTIVE DATE: December 27, 2002.

FOR FURTHER INFORMATION CONTACT: Edythe Artman, AD/CVD Enforcement 3, Import Administration, International Trade Administration, U.S. Department of Commerce, 14th Street and Constitution Avenue, N.W., Washington, D.C. 20230; telephone: (202) 482-3931.

SUPPLEMENTARY INFORMATION:

Background

On November 30, 2001, Huaiyang Hongda Dehydrated Vegetable Company (Hongda) requested a new shipper review, in accordance with section 751(a)(2)(B) of the Tariff Act of 1930, as amended (the Act), and 19 CFR 351.214(b) (2001), of exports of its merchandise to the United States. On January 7, 2002, the Department initiated a new shipper review for Hongda. See Fresh Garlic From the People's Republic of China: Initiation of New Shipper Antidumping Duty Reviews, 67 FR 715 (January 7, 2002). We rescinded this review on July 3, 2002, after finding that the date of sale and entry of the company's reviewable sale fell outside the period of review. See Fresh Garlic from the People's Republic of China: Rescission of New Shipper Antidumping Duty Review and Initiation of New Shipper Antidumping Duty Review, 67 FR 44594 (July 3, 2002). At the same time, we initiated a new shipper review that covers Hongda's entries, exports, and sales during the period of November 1, 2001, through April 30, 2002. Currently, the deadline for completing the preliminary results of this review is December 23, 2002.

Extension of Time Limit for Preliminary Results of New Shipper Review

A number of complex factual and legal questions related to the calculation of the dumping margin have arisen in this review. For example, the petitioners have raised issues concerning the factors of production information to be applied to sales of merchandise that Hongda obtained from an unaffiliated supplier. As a result, we are still evaluating Hongda's responses to the original questionnaire and two supplemental questionnaires and comments submitted by the petitioners. Therefore, we find that the new shipper review is extraordinarily complicated and it is not practicable to complete the review within the time limits mandated by section 751(a)(2)(B)(iv) of the Act. In accordance with section 751(a)(2)(B)(iv) of the Act and 19 CFR 214(i)(2), we are extending the time limit for the preliminary results of this review to no later than April 22, 2003.

Dated: December 20, 2002.
Louis Apple,
Acting Deputy Assistant Secretary for AD/CVD Enforcement I.

[FR Doc. 02-32783 Filed 12-26-02; 8:45 am]

BILLING CODE 3510-DS-S